DEPARTMENT OF COMMERCE

Bureau of the Census

National Sunshine Week Public Event

AGENCY: Bureau of the Census, Department of Commerce.

ACTION: Notice of public event.

SUMMARY: The Bureau of the Census (U.S. Census Bureau) is announcing the following event, “Celebrating Openness,” in recognition of National Sunshine Week. In recognizing the 50th Anniversary of the Freedom of Information Act (FOIA) and as part of its efforts to promote the goals of open government, the Census Bureau will hold public workshops describing the components of our Open Government Plan.

DATES: The public workshops will be held on Wednesday, March 16 and Thursday, March 17, 2016, from 9:30 a.m. to 3:30 p.m. The Census Bureau also will co-host a kick-off event with the Department of Commerce (DOC) on March 15, 2016, in the DOC Auditorium. Additional information will follow on the DOC event.

ADDRESSES: The public workshops will be held at the U.S. Census Bureau Training Rooms, T-4 and T-5, 4600 Silver Hill Road, Suitland, MD 20746.

FOR FURTHER INFORMATION CONTACT: William Savino or Karen Bronson at the Freedom of Information Act and Open Government Office, by telephone (301) 763-2127, by email at census.efoia@census.gov, or by postal mail addressed to: U.S. Census Bureau, Policy Coordination Office, Freedom of Information Act and Open Government Branch, Room 8H027, 4600 Silver Hill Road, Washington, DC 20233.

For TTY callers, please call the Federal Relay Service (FRS) at 1-800-877-8339 and give them the above-listed number you would like to call. This service is free and confidential.

SUPPLEMENTARY INFORMATION: The workshops will begin promptly at 9:30 a.m. and end at 3:30 p.m. The agenda will be available a week before the event on the Census Bureau Web site, http://www.census.gov/. Registration is free, but advanced registration is required. Send an email to census.efoia@census.gov to register. Please include “Sunshine Week Workshops Registration” in the subject line.

The workshops will translate the tenants of open government by detailing how those tenants are operationalized and advanced in our Open Government Plan. Members of the public who are unable to attend in person but wish to participate in the workshops will be provided call-in instructions upon registration. There will be an opportunity for questions and answers following each presentation. The workshops will include topics such as FOIA, Privacy, Open Data, Web site, and Records Management.

The event will be physically accessible to people with disabilities. Individuals requiring accommodations such as sign language interpretation or other auxiliary aids should call Iris Boon at (301) 763-2127 to request accommodations at least five business days in advance.

All registrants will be placed on a visitor's list. All visitors for the event must provide government-issued photo identification in order to enter the building and receive a visitor's badge. For logistical questions, call Nicole Alexander at (301) 763-2127.

Media interested in attending should call the Census Bureau's Public Information Office at (301) 763-3030.

John H. Thompson,
Director, Bureau of the Census.

[FR Doc. 2016-02525 Filed 2-8-16; 8:45 am]

BILLING CODE 3510-07-P